DEPARTMENT OF COMMERCE

National Oceanic and Atmospheric Administration

RIN: 0648-XC36

Western Pacific Regional Fishery Management Council; Public Meeting

AGENCY: National Marine Fisheries Service (NMFS), National Oceanic and Atmospheric Administration (NOAA), Commerce.

ACTION: Notice of a public meeting.

SUMMARY: The 96th meeting of the Western Pacific Regional Fishery Management Council's (Council) Scientific and Statistical Committee (SSC) will convene Tuesday, September 25, 2007, through Thursday September 27, 2007(see SUPPLEMENTARY INFORMATION for specific times, dates, and agenda items).

ADDRESSES: The SSC meeting will be held at the Council Office Conference Room, 1164 Bishop St., Suite 1400, Honolulu, HI; telephone: (808) 522-8220.

FOR FURTHER INFORMATION CONTACT: Kitty M. Simonds, Executive Director; telephone: (808) 522-8220.

SUPPLEMENTARY INFORMATION:

Dates and Times and Locations

The SSC meeting will be held between 9 a.m. and 5 p.m. on Tuesday, September 25, 2007, and between 8:30 a.m. and 5 p.m. on Wednesday and Thursday September 26-27, 2007 at the Council Office Conference Room, 1164 Bishop St., Suite 1400, Honolulu, HI; telephone: (808) 522-8220.

Tuesday, September 25, 2007, 9 a.m.

1. Introductions

2. Approval of Draft Agenda and Assignment of Rapporteurs

3. Approval of the Minutes of the 95th SSC Meeting

4. Report from the Pacific Fisheries Science Center Director

5. The New Role of the SSC

A. The 2-Tier System

B. Magnuson Stevens Act Five-Year Research Plan

C. Annual Catch Limits

D. Stock Assessment Reviews

6. Data Collection

A. Federal Management Unit Species Fishery Permitting and Reporting Options (ACTION ITEM)

B. Report on status of Marine Recreational Information Program

C. Public Comment

7. Insular Fisheries

A. Bottomfish Management

1. Bottomfish Risk Assessment Model (ACTION ITEM)

B. Public Comment

C. Discussion and Recommendations

Wednesday, September 26, 2007, 8:30 a.m.

8. Rights-based Management

9. Pelagic Fisheries

A. Longline Management

1. Hawaii Swordfish Fishery Effort Options (ACTION ITEM)

2. Pelagics Total Allowable Catch Amendment (ACTION ITEM)

3. Commonwealth of the Northern Mariana Islands Closed Area Options (ACTION ITEM)

4. American Samoa Program Modifications (ACTION ITEM)

B. Non-Longline Management

1. Purse-Seine Closed Areas (ACTION ITEM)

a. Marianas Archipelago

b. American Samoa

2. Non-Longline Pelagic Fishery Management Options (ACTION ITEM)

C. American Samoa and Hawaii Longline Quarterly Reports

D. Stock Assessment Review

1. Western & Central Pacific Ocean Yellowfin Tuna

2. North Pacific Blue Shark

3. North Pacific Albacore Tuna

4. North Pacific Striped Marlin

E. International Fisheries

1. Inter-American Tropical Tuna Commission Meeting

2. International Scientific Committee Meeting

3. Western & Central Pacific Fisheries Commission (WCPFC) Science Committee Meeting

4. WCPFC Northern Committee Meeting

5. Bellagio II 'Comeback Leatherback'

F. Public Comment

G. Discussion and Recommendations

Thursday, September 27, 2007, 8:30 a.m.

10. Program Planning

A. Community Development Plan Process Options

B. Hawaii Marine Conservation Plan

C. Public Comment

D. Discussion and Recommendations

11. Other Business

A. 97th SSC Meeting

12. Summary of SSC Recommendations to the Council

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C.1801 et seq.

Dated: August 29, 2007.
Tracey L. Thompson,
Acting Director, Office of Sustainable Fisheries, National Marine Fisheries Service.

[FR Doc. E7-17466 Filed 9-4-07; 8:45 am]

BILLING CODE 3510-22-S